DEPARTMENT OF TRANSPORTATION

Surface Transportation Board

[STB Finance Docket No. 34096]

Union Pacific Railroad Co.—Trackage Rights Exemption—Illinois Central Railroad Co.

Illinois Central Railroad Company (IC) has agreed to grant temporary overhead trackage rights to Union Pacific Railroad Company (UP) over IC's line between a connection with The Indiana Harbor Belt Railroad Company (IHB) near IC milepost 17.9 (Highlawn) and Moyers Intermodal Terminal near IC milepost 20.9 in Harvey, IL, a distance of approximately 3 miles.

The transaction was scheduled to be consummated on or after September 17, 2001, the effective date of the exemption.

The purpose of the trackage rights is to permit UP to operate over IC's trackage for delivering or receiving intermodal cars, trailers, and containers at the Moyers Intermodal Terminal.

As a condition to this exemption, any employees affected by the trackage rights will be protected by the conditions imposed in Norfolk & Western Ry. Co.—Trackage Rights—BN, 354 I.C.C. 605 (1978), as modified in Mendocino Coast Ry., Inc.—Lease & Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34096, must be filed with the Surface Transportation Board, Office of the Secretary, Case Control Unit, 1925 K Street, NW., Washington, DC 20423-0001. In addition, one copy of each pleading must be served on Robert T. Opal, 1416 Dodge Street, Room 830, Omaha, NE 68179.

Board decisions and notices are available on our website at www.stb.dot.gov.

Decided: September 19, 2001.
By the Board, David M. Konschnik, Director, Office of Proceedings.
Vernon A. Williams,
Secretary.

[FR Doc. 01-24112 Filed 9-26-01; 8:45 am]

BILLING CODE 4915-00-P